DEPARTMENT OF JUSTICE

Antitrust Division

Notice Pursuant to the National Cooperative Research and Production Act of 1993—Southwest Research Institute (“SwRI”): Advanced Reciprocating Engine Systems (“ARES”)

Notice is hereby given that, on January 16, 2001, pursuant to section 6(a) of the National Cooperative Research and Production Act of 1993, 15 U.S.C. 4301 et seq. (“the Act”), Southwest Research Institute (“SwRI”): Advanced Reciprocating Engine Systems (“ARES”) has filed written notifications simultaneously with the Attorney General and the Federal Trade Commission disclosing changes in its membership and project status. The notifications were filed for the purpose of extending the Act's provisions limiting the recovery of antitrust plaintiffs to actual damages under specified circumstances. Specifically, Altronic, Inc. has been dropped as a party to this venture; and the period of performance has been extended to May 30, 2001.

No other changes have been made in either the membership or planned activity of the group research project. Membership in this group research project remains open, and Southwest Research Institute (“SwRI”): Advanced Reciprocating Engine Systems (“ARES”) intends to file additional written notification disclosing all changes in membership.

On February 9, 1999, Southwest Research Institute (“SwRI”): Advanced Reciprocating Engine Systems (“ARES”) filed its original notification pursuant to section 6(a) of the Act. The Department of Justice published a notice in the Federal Register pursuant to Section 6(b) of the Act on May 26, 1999 (64 FR 28521).

The last notification was filed with the Department on March 6, 2000. A notice was published in the Federal Register pursuant to section 6(b) of the Act on July 11, 2000 (65 FR 42727).

Constance K. Robinson,
Director of Operations, Antitrust Division.

[FR Doc. 01-5064 Filed 3-1-01; 8:45 am]

BILLING CODE 4410-11-M